DEPARTMENT OF HOUSING AND URBAN DEVELOPMENT

[Docket No. FR-4910-N-01]

Notice of Proposed Information Collection for Public Comment—Exigent Health and Safety Deficiency Correction and Remedy Certification

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: March 22, 2004.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

The Exigent Health and Safety Deficiency Correction and Remedy Certification templates are the set of documents on which the Department will collect information from Public Housing Agencies (PHAs) and multifamily property owners/agents about the correction and mitigation of exigent health and safety (EH&S) deficiencies that are identified in the property inspection.

The Department's Uniform Physical Condition Standards (UPCS) regulation (24 CFR part 5, subpart G) provides that HUD assisted and insured housing must be decent, safe, sanitary, and in good repair. Owners/agents and PHAs must maintain the housing in a manner that meets the prescribed physical condition standards in order to be considered decent, safe, sanitary, and in good repair. In addition, the UPCS regulation provides that all areas and components of the housing must be free of health and safety hazards.

This Notice also lists the following information:

Title of Proposal: Exigent Health and Safety Deficiency Correction and Remedy Certification.

OMB Control Number: 2507-00X.

Description of the need for the information and proposed use: Pursuant to the UPCS inspection protocol, at the end of the property inspection (or at the end of each day of a multi-day inspection) (or at the end of each day of a multi-day inspection) the inspector provides the property representative with a copy of the “Notification of Exigent and Fire Safety Hazards Observed” form. Listed on this document that is given to the property representative for signature is each EH&S deficiency that the inspector observed during the inspection or on that day of the inspection.

The PHAs are to correct or mitigate EH&S deficiencies (i.e., emergency work orders) within 24 hours (24 CFR part 902). Property owners/agents are to correct or remedy EH&S deficiencies immediately and notify the Department in writing within three business days of the date of inspection which the date the owner was provided notice of these deficiencies (24 CFR 200.857(c)).

In accordance with these requirements, PHAs and multifamily property owners/agents enter the required data on the templates, certify to the data entered, and electronically submit the information to HUD. Requiring PHAs and multifamily property owners/agents to report correction and mitigation activities enables HUD to monitor regulatory requirements and conduct follow-up activities to assist in ensuring the residents are living in HUD housing that is decent, safe, sanitary and in good repair and is free of health and safety hazards.

Agency form numbers, if applicable: Not applicable.

Members of affected public: Local, State, or Tribal governments, not-for-profit institutions, businesses or other for-profit.

Estimation of the total number of hours needed to prepare the information collection including number of respondents, frequency of response, and hours of response:

2,061 PHAs; annual submission per PHA; average burden hours for PHA response is .32 hours; the total reporting burden is 648.65 hours.

6,771 multifamily property owners; annual submission per owner; average burden hours for owner response is .3 hours; the total reporting burden is 2,044.15 hours.

Status of the proposed information collection: Approval of a new collection.

Authority: Section 3506 of the Paperwork Reduction Act of 1995, 44 U.S.C. Chapter 35, as amended.

Dated: December 31, 2003.
William Russell III,
Deputy Assistant Secretary for Public Housing and Voucher Programs.

[FR Doc. 04-1100 Filed 1-16-04; 8:45 am]

BILLING CODE 4210-33-M